DEPARTMENT OF TRANSPORTATION

Coast Guard

[USCG 2000-7689]

Acceptance by the Coast Guard of ASME's 1998 Boiler and Pressure-Vessel Code With 1999 Addenda

AGENCY: Coast Guard, DOT.

ACTION: Notice of policy.

SUMMARY: The Coast Guard announces its acceptance of the American Society of Mechanical Engineers' (ASME's) 1998 Boiler and Pressure-Vessel Code with 1999 Addenda. Although the revised allowable stresses employ a lower design margin for the tensile strength of the material than ASME's 1989 Boiler and Pressure-Vessel Code with 1989 Addenda, the lower margin is acceptable because of better quality control in materials production. This acceptance should reduce costs to industry with no loss of safety to the public.

DATES: Comments to the docket for this notice must reach the Docket Management Facility on or before September 29, 2000.

ADDRESSES: You may submit your written comments and related material to the docket [USCG 2000-7689] by only one of the following methods:

(1) By mail to the Docket Management Facility, U.S. Department of Transportation, room PL-401, 400 Seventh Street SW., Washington, DC 20590-0001.

(2) By hand to room PL-401 on the Plaza Level of the Nassif Building, 400 Seventh Street SW., Washington, DC, between 9 a.m. and 5 p.m., Monday through Friday, except Federal holidays. The telephone number is 202-366-9329.

(3) By fax to the Docket Management Facility at 202-493-2251.

(4) By electronic means through the Web Site for the Docket Management System at http://dms.dot.gov.

The Docket Management Facility maintains the public docket for this notice. Comments and documents, as indicated in this notice, will become part of this docket and will be available for inspection or copying at room PL-401 on the Plaza Level of the Nassif Building at the same address between 9 a.m. and 5 p.m., Monday through Friday, except Federal holidays. You may electronically access the public docket for this notice on the Internet at http://dms.dot.gov.

FOR FURTHER INFORMATION CONTACT: For questions on this notice, contact Mr. Wayne Lundy or LT Ryan D. Manning, Systems Engineering Division (G-MSE-3), U.S. Coast Guard Headquarters, 2100 Second Street SW., Washington, DC 20593-0001, telephone 202-267-2206, fax 202-267-4816. For questions on viewing or submitting material to the docket, call Ms. Dorothy Beard, Chief, Dockets, Department of Transportation, telephone 202-366-9329.

SUPPLEMENTARY INFORMATION:

Request for Comments

We encourage you to participate by submitting comments and related material. If you do so, please include your name and address, identify the docket number [USCG 2000-7689], indicate the specific section of this document to which each comment applies, and give the reason for each comment. You may submit your comments and material by mail, hand, fax, or electronic means to the Docket Management Facility at the address under ADDRESSES, but please submit your comments and material by only one means. If you submit them by mail or hand, submit them in an unbound format, no larger than 8½ by 11 inches, suitable for copying and electronic filing. If you submit them by mail and would like to know they reached the Facility, please enclose a stamped, self-addressed postcard or envelope. We will consider all comments and material received during the comment period.

Background and Purpose

46 CFR part 52 incorporates by reference Section I of ASME's 1989 Boiler and Pressure-Vessel Code with 1989 Addenda. Likewise, 46 CFR part 54 incorporates by reference Division 1 of Section VIII of the same Code and Addenda. ASME publishes the Code every three years, and an Addendum every year, to reflect new industry standards, technological advances, and product improvements. If any edition of this Code published after 1989 or any Addendum published after then contains standards that you prefer to use instead of those already incorporated by reference, then you may apply for a waiver from Commandant (G-MSE) as referenced in 46 CFR 50.20-30. The Coast Guard proposes to update these incorporations by reference to let manufacturers use the 1998 Code with 1999 Addenda for construction of new boilers and pressure vessels.

The 1998 Code with 1999 Addenda reduces the design margins allowable for construction of new boilers and pressure vessels. The allowable stresses decrease from a margin of 4:1 to one of 3.5:1. Quality control in materials production has improved enough to make this lower margin acceptable. The lower margin in turn necessitates a decrease in requirements for the hydrostatic and pneumatic testing of pressure vessels to 1.3 times the maximum allowable working pressure (MAWP) and 1.1 times the MAWP, respectively. The requirement for the hydrostatic testing of power boilers, nevertheless, remains at 1.5 times the MAWP; however, at no time during the testing may any part of the boiler be subjected to a general primary membrane stress greater than 90 percent of its yield strength (0.2 percent offset) at the testing temperature.

We are working on a separate rule to update 46 CFR parts 52 and 54, and to incorporate by reference ASME's 1998 Boiler and Pressure-Vessel Code with 1999 Addenda. Until we do, though, the 1989 Code with 1989 Addenda remains the edition incorporated in both parts. If you choose to use the 1998 Code, you must comply with it and its 1999 Addenda in their entirety. You must meet all of the requirements and specifications set out in 46 CFR Tables 52.01-1(A) and 54.01-1(A), even if you use the 1998 Code. But, in either case, the design margins for independent type-C tank vessels and process pressure vessels described in 46 CFR part 154.450 must continue to satisfy the 1989 Code with 1989 Addenda.

Dated: July 24, 2000.
Joseph J. Angelo,
Director of Standards, Marine Safety and Environmental Protection.

[FR Doc. 00-19281 Filed 7-28-00; 8:45 am]

BILLING CODE 4910-15-P